INTERNATIONAL TRADE COMMISSION

[Investigation No. 337-TA-1091]

Certain Intraoral Scanners and Related Hardware and Software Commission Determination Not To Review an Initial Determination Granting a Motion for Leave To Amend the Complaint and Notice of Investigation To Add Respondent

AGENCY: U.S. International Trade Commission.

ACTION: Notice.

SUMMARY: Notice is hereby given that the U.S. International Trade Commission has determined not to review an initial determination (“ID”) (Order No.11) of the presiding administrative law judge (“ALJ”), granting complainant's unopposed motion for leave to amend the complaint and notice of investigation to add 3Shape Trios A/S of Copenhagen, Denmark, as a respondent.

FOR FURTHER INFORMATION CONTACT: Amanda Fisherow, Esq., Office of the General Counsel, U.S. International Trade Commission, 500 E Street SW, Washington, DC 20436, telephone (202) 205-2737. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on December 20, 2017, based on a complaint, as amended and supplemented, filed on behalf of Align Technology, Inc. of San Jose, California (“complainant”). 82 FR 60418 (Dec. 20 2017). The complaint, as amended and supplemented, alleges violations of Section 337 of the Tariff Act of 1930, as amended, 19 U.S.C. 1337 (“section 337”), based upon the importation into the United States, the sale for importation, and the sale within the United States after importation of certain color intraoral scanners and related hardware and software by reason of infringement of certain claims of U.S. Patent No. 8,363,228, U.S. Patent No. 8,451,456, U.S. Patent No. 8,675,207, U.S. Patent No. 9,101,433, U.S. Patent No. 6,948,931, and U.S. Patent No. 6,685,470. The Notice of Investigation named 3Shape A/S of Copenhagen, Denmark and 3Shape, Inc. of Warren, New Jersey as respondents. The Office of Unfair Import Investigations was not named as a party in this investigation.

On March 6, 2018, the complainant filed an unopposed motion for leave to file a second amended complaint naming 3Shape Trios A/S as a new respondent in the investigation under Commission Rule 210.14(b)(1). On March 15, 2018, the ALJ issued the subject ID, granting complainant's unopposed motion. The ALJ found that good cause exists to amend the complaint and there is no evidence of any prejudice to the parties at this early stage of the investigation. No petitions for review were filed.

The Commission has determined not to review the ID.

The authority for the Commission's determination is contained in section 337 of the Tariff Act of 1930, as amended (19 U.S.C. 1337), and in Part 210 of the Commission's Rules of Practice and Procedure (19 CFR part 210).

By order of the Commission.
Issued: March 26, 2018.
Lisa Barton,
Secretary to the Commission.

[FR Doc. 2018-06415 Filed 3-29-18; 8:45 am]

BILLING CODE 7020-02-P